ENVIRONMENTAL PROTECTION AGENCY

[ER-FRL-9048-7]

Environmental Impact Statements; Notice of Availability

Weekly receipt of Environmental Impact Statements filed December 20, 2019, 10 a.m. EST through December 30, 2019, 10 a.m. EST, pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200000, Final, HCIDLA, CA, Rose Hill Courts Redevelopment Project, Review Period Ends: 01/23/2020, Contact: Shelly Lo 213-808-8879

Under Section 1506.10(d) of the Council on Environmental Quality Regulations for Implementing the Procedural Provisions of the National Environmental Policy Act, the U.S. Environmental Protection Agency has Granted a 10-Day Waiver for the above EIS.

EIS No. 20200001, Final Supplement, NRCS, MO, Little Otter Creek Watershed Plan Final Supplemental Environmental Impact Statement, Review Period Ends: 01/13/2020, Contact: Chris Hamilton 573-876-0912

Under Section 1506.10(d) of the Council on Environmental Quality Regulations for Implementing the Procedural Provisions of the National Environmental Policy Act, the U.S. Environmental Protection Agency has Granted a 20-Day Waiver for the above EIS.

EIS No. 20200002, Draft Supplement, USACE, NE, Nebraska Highway 12 Niobrara East and West, Comment Period Ends: 02/18/2020, Contact: Rebecca Latka 402-995-2681

EIS No. 20200003, Draft, TVA, TN, Gallatin Fossil Plant Surface Impoundment Closure and Restoration Project, Comment Period Ends: 02/18/2020, Contact: Ashley Farless 423-751-2361

Dated: December 30, 2019.
Robert Tomiak,
Director, Office of Federal Activities.

[FR Doc. 2019-28393 Filed 1-2-20; 8:45 am]

BILLING CODE 6560-50-P